ENVIRONMENTAL PROTECTION AGENCY

[ER-FRL-9042-6]

Environmental Impact Statements; Notice of Availability

Responsible Agency: Office of Federal Activities, General Information 202-564-5632 or https://www.epa.gov/nepa/.

Weekly receipt of Environmental Impact Statements

Filed 11/19/2018 Through 11/23/2018

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20180284, Draft Supplement, USFS, MT, Stonewall Vegetation Project, Comment Period Ends: 01/14/2019, Contact: Laura Conway 406-791-7739.

EIS No. 20180285, Draft, USFWS, WA, Skookumchuck Wind Energy Project Proposed Habitat Conservation Plan and Incidental Take Permit for Marbled Murrelet, Bald Eagle, and Golden Eagle, Lewis and Thurston Counties, Washington, Comment Period Ends: 01/14/2019, Contact: Tim Romanski 360-753-5823.

EIS No. 20180286, Draft, BLM, ID, Caldwell Canyon Mine and Reclamation Plan, Comment Period Ends: 01/14/2019, Contact: Bill Volk 208-236-7503.

EIS No. 20180287, Final, UDOT, UT, I-15, Payson Main Street Interchange, Review Period Ends: 12/31/2018, Contact: Naomi Kisen 801-965-4005.

EIS No. 20180288, Final, OSM, MT, Western Energy Company's Rosebud Mine Area F, Review Period Ends: 12/31/2018, Contact: Logan Sholar 303-293-5036.

EIS No. 20180289, Draft, USFS, AZ, Fossil Creek Wild and Scenic River Comprehensive River Management Plan, Comment Period Ends: 02/28/2019, Contact: Marcos Roybal 928-203-2915.

EIS No. 20180290, Draft, BR, CA, Mendota Pool Group 20-Year Exchange Program, Comment Period Ends: 01/14/2019, Contact: Rain Emerson 559-262-0335.

EIS No. 20180291, Draft, BLM, UT, The Sevier Playa Potash Project, Utah, Comment Period Ends: 01/14/2019, Contact: Clara Stevens 435-743-3119.

Dated: November 27, 2018.
Robert Tomiak,
Director, Office of Federal Activities.

[FR Doc. 2018-26074 Filed 11-29-18; 8:45 am]

BILLING CODE 6560-50-P